DEPARTMENT OF THE INTERIOR

Fish and Wildlife Service

Draft Comprehensive Conservation Plan for Arrowwood National Wildlife Refuge, Foster and Stutsman Counties, ND

AGENCY: Fish and Wildlife Service, Interior.

ACTION: Notice of availability.

SUMMARY: The U.S. Fish and Wildlife Service (Service) announces that the draft Comprehensive Conservation Plan (CCP) and Environmental Assessment (EA) for the Arrowwood National Wildlife Refuge (Refuge) is available. This draft CCP/EA describes how the Service intends to manage this Refuge for the next 15 years.

DATES: We must receive written comments on the draft CCP/EA by April 23, 2007. Submit comments by one of the methods under ADDRESSES.

ADDRESSES: Please provide written comments to Michael Spratt, Chief, Division of Refuge Planning, Mountain-Prairie Region, P.O. Box 25486, Denver Federal Center, Denver, Colorado 80225-0486, or electronically to Michael_Spratt@fws.gov. A copy of the CCP can be obtained by writing to U.S. Fish and Wildlife Service, Division of Refuge Planning, 134 Union Boulevard, Suite 300, Lakewood, CO 80228; or by download from http://mountain-prairie.fws.gov/planning.

FOR FURTHER INFORMATION CONTACT: Michael Spratt, 303-236-4366 (phone); 303-236-4792 (fax); or Michael_Spratt@fws.gov (e-mail).

SUPPLEMENTARY INFORMATION: President Franklin D. Roosevelt signed Executive Order 7168 on September 4, 1935, “establishing Arrowwood Migratory Waterfowl Refuge.” Now known as Arrowwood National Wildlife Refuge, the 15,973-acre Refuge is in east-central North Dakota. The Refuge covers 14 miles of the James River Valley in Foster and Stutsman counties, approximately 30 miles north of Jamestown. The purposes of the Refuge are for use by migratory birds with emphasis on waterfowl and other water birds; the conservation of fish and wildlife resources; use as an inviolate sanctuary; or for any other management purposes, for migratory birds; and a Refuge and breeding ground for migratory birds and other wildlife.

The Refuge lies on the Central Flyway migratory corridor and is an important stopover for many birds. The prairie grassland and wetland complex habitats provides a nesting and feeding habitat for waterfowl in the spring and summer. Hundreds of thousands of waterfowl migrate through the area and use the wetlands in the spring and fall for feeding and resting. The Refuge contains approximately 6,000 acres of native prairie; 5,340 acres of seed grasses; 3,850 acres of wetlands; 660 acres of wooded ravines and riparian woodlands; and 125 acres of planted trees including shelterbelts. It is important to note that 3,430 acres of wetlands are managed impoundments and pools. Public use and recreation at the Refuge includes the six priority wildlife-dependent uses: hunting, fishing, wildlife observation, wildlife photography, interpretation, and education.

This draft CCP/EA identifies and evaluates three alternatives for managing the Refuge for the next 15 years. Under Alternative A, the No Action alternative, the Service would manage habitats, wildlife, programs, and facilities at current levels as time, staff, and funds allow. There would be an emphasis on waterfowl migration and reproduction habitat. The Service would not develop any new management, restoration, or education programs at the Refuge. Target elevations of each wetland impoundment would be managed independently to achieve optimal habitat conditions.

Alternative B would maximize the biological potential of the Refuge for both wetland and upland habitats, and support a well-balanced and diverse flora and fauna representative of the Prairie Pothole Region. A scientific-based monitoring program would be developed as part of the habitat management plan (HMP). Public use opportunities would be expanded with the construction of additional facilities and development of educational programs.

Alternative C, the Proposed Action, would include those features described in Alternative B, as well as including a plan to improve the water quality entering the Refuge, and reducing peak flows in the upper James River watershed during spring runoff and summer rainfall events. This watershed management component would include working with private landowners through the U.S. Fish and Wildlife Service's Partners for Fish and Wildlife program and other federal, state, and private conservation programs. The focus would be to protect and restore wetlands and grasslands, and reduce the impact on water quality from cropland and livestock operations. Improving the health of the upper James River watershed would not only benefit wildlife habitat in the watershed and at the Refuge, it would also benefit the Jamestown Reservoir and all downstream users.

The Proposed Action was selected because it best meets the purposes and goals of the Refuge, as well as the goals of the National Wildlife Refuge System. The Proposed Action will also benefit federally listed species, waterfowl, shorebirds, wading birds, grassland birds, and songbirds. Environmental education and partnerships will result in improved wildlife-dependent recreational opportunities. Cultural and historical resources, as well as federally listed species, will be protected.

Opportunities for public input will also be provided at a public meeting. Exact dates and times for these public meetings are yet to be determined, but will be announced via local media and a newsletter. All information provided voluntarily by mail, phone, or at public meetings (e.g., names, addresses, letters of comment, input recorded during meetings) becomes part of the official public record. If requested under the Freedom of Information Act by a private citizen or organization, the Service may provide copies of such information. The environmental review of this project will be conducted in accordance with the requirements of the National Environmental Policy Act (NEPA) of 1969, as amended (42 U.S.C. 4321 et seq.); NEPA Regulations (40 CFR 1500-1508); other appropriate Federal laws and regulations; Executive Order 12996; the National Wildlife Refuge System Improvement Act of 1997; and Service policies and procedures for compliance with those laws and regulations.

Dated: November 17, 2006.
James J. Slack,
Deputy Regional Director, Region 6, Denver, Colorado.

Editorial Note: This document was received at the Office of the Federal Register on March 19, 2007.

[FR Doc. E7-5211 Filed 3-21-07; 8:45 am]

BILLING CODE 4310-55-P